DEPARTMENT OF COMMERCE

National Oceanic and Atmospheric Administration

50 CFR Part 648

[Docket No. 151130999-6594-02]

RIN 0648-XF247

Fisheries of the Northeastern United States; Atlantic Bluefish Fishery; 2017 Sector Quota Transfer Adjustment

AGENCY: National Marine Fisheries Service (NMFS), National Oceanic and Atmospheric Administration (NOAA), Commerce.

ACTION: Temporary rule; quota transfer adjustment.

SUMMARY: This action adjusts the previously established 2017 Atlantic bluefish sector transfer amount from the recreational fishery to the commercial fishery. Updated information from 2016 catch estimates indicate that the 2017 transfer amount may be increased, which adjusts the 2017 bluefish recreational harvest limit and commercial quota values. This action notifies the public of these adjustments.

DATES: This action is effective March 10, 2017, through December 31, 2017.

ADDRESSES: The Atlantic bluefish specifications final rule (81 FR 51370; August 4, 2016) that established the initial 2017 commercial quota and recreational harvest limit is accessible via the Internet at www.regulations.gov. Copies of the original specifications document, including the Environmental Assessment and Initial Regulatory Flexibility Analysis (EA/IRFA), and other supporting documents, are available on request from Dr. Christopher M. Moore, Executive Director, Mid-Atlantic Fishery Management Council, Suite 201, 800 North State Street, Dover, DE 19901. These documents are also accessible via the Internet at http://www.mafmc.org.

FOR FURTHER INFORMATION CONTACT: Cynthia Hanson, Fishery Management Specialist, (978) 281-9180.

SUPPLEMENTARY INFORMATION:

Background

The regulations governing the Atlantic bluefish fishery are found in 50 CFR 648.160 through 648.167. In August 2016, we implemented the Atlantic bluefish fishery specifications for the 2016 through 2018 fishing years. These specifications, consistent with the Atlantic Bluefish Fishery Management Plan (FMP) specification setting process, included the contingency that the estimated sector transfer of quota for 2017 would be re-evaluated and adjusted with realized recreational landings from the preceding year (2016). The process to transfer quota from the recreational to the commercial sector of the bluefish fishery is described in § 648.162(b)(2).

Final Sector Transfer and Specification Adjustments

A transfer of quota from the recreational fishery to the commercial fishery is permitted under the FMP up to a commercial fishery quota of 10.5 million lb (4,763 mt), provided the combined expected recreational landings and the commercial quota do not exceed the total allowable landings (TAL), and the recreational fishery is not projected to exceed its harvest limit. The initial 2017 bluefish specifications contained an estimated sector quota transfer based on recreational catch data projected from available 2015 recreational landings. That transfer amount (2,561,747 lb; 1,161 mt) was calculated so that the initial 2017 recreational harvest limit was equal to the expected 2015 recreational landings, and the final commercial quota did not exceed 10.5 million lb, consistent with the FMP requirement outlining the transfer process. This resulted in an initial 2017 commercial quota of 6,070,867 lb (2,753 mt) and an initial 2017 recreational harvest limit of 11,581,548 lb (5,253 mt). The bluefish quota management system for the commercial fishery has been timely and effective at constraining catch in the past, and no state is expected to exceed their quota. However, recreational bluefish catches can be more variable, so the Mid-Atlantic Fishery Management Council recommended that we re-evaluate the suggested sector quota transfer each year, consistent with the FMP requirements, as additional, updated recreational fishery data become available.

The preliminary 2016 Marine Recreational Information Program (MRIP) catch estimates for the full year became available in February, providing the most recent complete recreational data for 2016. The 2016 recreational bluefish catch estimate (see Table 1) is lower than the 2015 projected value (11,581,548 lb, 5,253 mt) used to calculate the initial 2017 transfer in the 2016-2018 bluefish specifications, so we are adjusting the transfer amount and resulting quotas accordingly in this notice. Using these updated recreational landings to project 2017 catch, we are implementing an adjusted transfer of 5,033,101 lb (2,282 mt) from the recreational to commercial sector; resulting in a revised harvest limit of 9,653,715 lb (4,379 mt), and a revised commercial quota of 8,542,221 lb (3,874 mt). Consistent with the FMP protocol, we calculated the size of the transfer so that the 2017 recreational harvest limit is equal to the updated 2016 recreational landings estimate, and the final commercial quota does not exceed 10.5 million lb. The adjusted 2017 specifications are shown in Table 1. When final data become available later this spring, we will determine if any adjustments to this transfer amount are necessary.

Table 1—Adjusted 2017 Atlantic Bluefish Specifications
| 2017: lb | 2017: mt
OFL | 26,444,448 | 11,995
ABC | 20,641,883 | 9,363
ACL | 20,641,883 | 9,363
Management Uncertainty | 0 | 0
Commercial ACT | 3,509,120 | 1,592
Recreational ACT | 17,132,763 | 7,770
Commercial Discards | 0 | 0
Recreational Discards* | 2,445,947 | 1,109
Commercial TAL | 3,509,120 | 1,592
Recreational TAL* | 14,686,816 | 6,661
Combined TAL | 18,195,936 | 8,253
Expected Recreational Landings | 9,653,715 | 4,379
Transfer | 5,033,101 | 2,282
Commercial Quota | 8,542,221 | 3,874
Recreational Harvest Limit | 9,653,715 | 4,379
* Recreational discards and TAL have also been updated from those outlined in the 2016-2018 specifications based on updated 2016 MRIP information.

This sector transfer is included in the Atlantic bluefish regulations, and is therefore consistent with the objectives of the FMP and the Magnuson-Stevens Fishery Conservation and Management Act.

Final Recreational Possession Limit

As a result of the revised sector transfer of 5,033,101 lb (2,282 mt) described above, the final, adjusted recreational harvest limit for the 2017 bluefish fishery is 9,653,715 lb (4,379 mt). Regardless of this adjustment, and consistent with the recommendation of the Council, the daily recreational possession limit for 2017 remains up to 15 fish per person, with a year-round open recreational season.

Final State Commercial Allocations

As required by regulations and described in § 648.162, the 2016-2018 bluefish specifications set an initial distribution of commercial quota for 2017 among the coastal states from Maine through Florida. Due to the increase in the 2017 commercial quota resulting from this sector quota transfer, these state-by-state allocations are also revised based on percentages specified in the FMP. The final, adjusted state commercial quotas for 2017 are shown in Table 2. No states exceeded their quota in 2016, so we are not implementing any accountability measures for the 2017 fishing year.

Table 2—Final 2017 Bluefish Commercial State-by-State Allocations
State | FMP percent share | 2017 Quota: kg | 2017 Quota: lb
ME | 0.6685 | 25,902 | 57,105
NH | 0.4145 | 16,061 | 35,408
MA | 6.7167 | 260,251 | 573,755
RI | 6.8081 | 263,793 | 581,563
CT | 1.2663 | 49,065 | 108,170
NY | 10.3851 | 402,390 | 887,118
NJ | 14.8162 | 574,081 | 1,265,633
DE | 1.8782 | 72,774 | 160,440
MD | 3.0018 | 116,310 | 256,420
VA | 11.8795 | 460,293 | 1,014,773
NC | 32.0608 | 1,242,255 | 2,738,704
SC | 0.0352 | 1,364 | 3,007
GA | 0.0095 | 368 | 812
FL | 10.0597 | 389,782 | 859,322
Total | 100.0001 | 3,874,690 | 8,542,230

Classification

This action is taken under 50 CFR part 648 and is exempt from review under Executive Order 12866.

Authority: 16 U.S.C. 1801 et seq.

Dated: March 7, 2017.
Karen H. Abrams,
Acting Deputy Director, Office of Sustainable Fisheries, National Marine Fisheries Service.

[FR Doc. 2017-04864 Filed 3-10-17; 8:45 am]

BILLING CODE 3510-22-P